DEPARTMENT OF ENERGY

Federal Energy Regulatory Commission

Combined Notice of Filings

Take notice that the Commission has received the following Natural Gas Pipeline Rate and Refund Report filings:

Filings Instituting Proceedings

Docket Numbers: RP25-1095-000.

Applicants: DTM Birdsboro Pipeline, LLC.

Description: Compliance filing: Order No. 587-AA Compliance Filing (NAESB 4.0) to be effective 10/1/2025.

Filed Date: 8/27/25.

Accession Number: 20250827-5097.

Comment Date: 5 p.m. ET 9/8/25.

Docket Numbers: RP25-1096-000.

Applicants: Washington 10 Storage Corporation.

Description: Compliance filing: Order No. 587-AA Compliance Filing (NAESB 4.0) to be effective 10/1/2025.

Filed Date: 8/27/25.

Accession Number: 20250827-5100.

Comment Date: 5 p.m. ET 9/8/25.

Docket Numbers: RP25-1097-000.

Applicants: Natural Gas Pipeline Company of America LLC.

Description: 4(d) Rate Filing: Non-Conforming NRAs Filing-Sequent Energy Mgmt. LLC to be effective 10/1/2025.

Filed Date: 8/27/25.

Accession Number: 20250827-5104.

Comment Date: 5 p.m. ET 9/8/25.

Docket Numbers: RP25-1098-000.

Applicants: Northwest Pipeline LLC.

Description: 4(d) Rate Filing: 2025 Winter Fuel Filing to be effective 10/1/2025.

Filed Date: 8/27/25.

Accession Number: 20250827-5107.

Comment Date: 5 p.m. ET 9/8/25.

Docket Numbers: RP25-1099-000.

Applicants: El Paso Natural Gas Company, L.L.C.

Description: 4(d) Rate Filing: Negotiated Rate Agreement Update (Pioneer Sept 2025) to be effective 9/1/2025.

Filed Date: 8/27/25.

Accession Number: 20250827-5109.

Comment Date: 5 p.m. ET 9/8/25.

Docket Numbers: RP25-1100-000.

Applicants: El Paso Natural Gas Company, L.L.C.

Description: 4(d) Rate Filing: Negotiated Rate Agreement Update (Sempra Sept 2025) to be effective 9/1/2025.

Filed Date: 8/27/25.

Accession Number: 20250827-5164.

Comment Date: 5 p.m. ET 9/8/25.

Docket Numbers: RP25-1101-000.

Applicants: Transcontinental Gas Pipe Line Company, LLC.

Description: 4(d) Rate Filing: 2025 ACA Tracker Filing—GSS, LSS, SS-2, and S-2 to be effective 10/1/2025.

Filed Date: 8/28/25.

Accession Number: 20250828-5053.

Comment Date: 5 p.m. ET 9/9/25.

Docket Numbers: RP25-1102-000.

Applicants: Texas Eastern Transmission, LP.

Description: 4(d) Rate Filing: Negotiated Rates—NJR eff 9-1-25 to be effective 9/1/2025.

Filed Date: 8/28/25.

Accession Number: 20250828-5073.

Comment Date: 5 p.m. ET 9/9/25.

Docket Numbers: RP25-1103-000.

Applicants: Columbia Gulf Transmission, LLC.

Description: 4(d) Rate Filing: Capacity Release—Tenaska and Mieco, Eff. 9.1.25 to be effective 9/1/2025.

Filed Date: 8/28/25.

Accession Number: 20250828-5084.

Comment Date: 5 p.m. ET 9/9/25.

Docket Numbers: RP25-1104-000.

Applicants: Millennium Pipeline Company, LLC.

Description: 4(d) Rate Filing: Housekeeping to be effective 10/1/2025.

Filed Date: 8/28/25.

Accession Number: 20250828-5090.

Comment Date: 5 p.m. ET 9/9/25.

Docket Numbers: RP25-1105-000.

Applicants: ANR Pipeline Company.

Description: 4(d) Rate Filing: GEMS to TC eConnects Conversion to be effective 10/1/2025.

Filed Date: 8/28/25.

Accession Number: 20250828-5122.

Comment Date: 5 p.m. ET 9/9/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 28, 2025.
Carlos D. Clay,
Deputy Secretary.

[FR Doc. 2025-16856 Filed 9-2-25; 8:45 am]

BILLING CODE 6717-01-P